DEPARTMENT OF LABOR

Employment and Training Administration

[TA-W-35,361]

The Trane Company, Tyler, TX; Amended Certification Regarding Eligibility to Apply for Worker Adjustment Assistance

In accordance with section 223 of the Trade Act of 1974 (19 U.S.C. 2273) the Department of Labor issued a Certification of Eligibility to Apply for Worker Adjustment Assistance on January 19, 1999, applicable to workers of The Trane Company, a division of American Standard, Incorporated, Tyler, Texas. The notice was published in the Federal Register on January 29, 1999 (64 FR 4712).

At the request of the State agency, the Department reviewed the certification for workers of the subject firm. New information shows that some employees of The Trane Company, a division of American Standard, Incorporated, Tyler, Texas were leased from Remedy Intelligent Staffing, Incorporated, Tyler, Texas to produce single cylinder reciprocating compressors for air conditioning units at the Tyler, Texas facility. Information also show that workers separated from employment at the subject firm had their wages reported under a separate unemployment insurance (UI) tax account for Remedy Intelligent Staffing, Incorporated.

Based on these findings, the Department is amending the certification to include workers at Remedy Intelligent Staffing, Incorporated, Tyler, Texas leased to The Trane Company, a division of American Standard, Incorporated, Tyler, Texas.

The amended notice applicable to TA-W-35,361 is hereby issued as follows:

All workers at The Trane Company, a division of American Standard, Incorporated, Tyler, Texas and leased workers of Remedy Intelligent Staffing, Incorporated, Tyler, Texas who were engaged in employment related to the production of single cylinder reciprocating compressors for air conditioning units for The Trane Company, a division of American Standard, Incorporated, Tyler, Texas who became totally or partially separated from employment on or after December 1, 1997 through January 19, 2001 are eligible to apply for adjustment assistance under Section 223 of the Trade Act of 1974.

Signed at Washington, DC this 17th day of January 2001.
Linda G. Poole,
Certifying Officer, Division of Trade Adjustment Assistance.

[FR Doc. 01-3292 Filed 2-7-01; 8:45 am]

BILLING CODE 4510-30-M